DEPARTMENT OF AGRICULTURE

Farm Service Agency

Notice of Request for Extension of a Currently Approved Information Collection

AGENCY: Farm Service Agency.

ACTION: Notice and request for comments.

SUMMARY: In accordance with the Paperwork Reduction Act of 1995, this notice announces the intent of the Farm Service Agency (FSA) to request an extension of a currently approved information collection used in support of the Standards for Approval of Volunteer Programs.

DATES: Comments must be submitted on or before February 25, 2005 to be assured consideration.

FOR FURTHER INFORMATION CONTACT: Ms. C. Mondina Jolley, USDA, Farm Service Agency, Human Resources Specialist, Domestic Operations Branch, Human Resources Division, 1400 Independence Ave., SW., Washington, DC 20250-0596, FAX 202-418-9120.

SUPPLEMENTARY INFORMATION: Title: Volunteer Programs.

OMB Control Number: 0560-0232.

Expiration Date for Approval: October 30, 2004.

Type of Request: Extension of a currently approved information collection.

Abstract: The Volunteer Program PM Notice authorizes the FSA to enter into volunteer agreements with students, individuals, groups or organizations who sponsor individual's services without compensation, and who performs those services in furtherance of the programs of the Agency. The information collected allows FSA to effectively recruit, train, and accept, volunteers to carry out programs of, or supported by, the Department.

The forms covered by this collection are the Student; Individual; and Sponsored Volunteer Program Service Agreements; and supporting documents that allow the Agency to document its use of individuals who are not Federal employees to provide voluntary service, except for the purpose of Chapter 81 of Title 5, U.S.C. (relating to Worker Compensation Program) and Sections 2671 through 2680 of Title 28 U.S.C. relating to tort claims. The forms are furnished to selected volunteers to secure and record information regarding the agreement and permit the volunteer to submit time and attendance information. Documentation is required by the Office of Personnel Management letter dated April 18, 1996, i.e., to inform volunteers of the nature of their appointment with respect to service credit for leave or other employees benefits and record time and attendance.

Estimate of Burden: The recording keeping requirements in this clearance are normal business records and, therefore, have no burden. Public reporting burden for this information collection is estimated to average 15 minutes per response.

Total Number of Respondents: 20.

Total Travel Time Per Respondent: 1 hour.

Total Annual Burden Hours: 16.

Comments are invited on: (a) Whether the collection of information is necessary for the proper performance of the functions of the Agency, including whether the information will have practical utility; (b) the accuracy of the Agency's estimate of burden including the validity of the methodology and assumptions used; (c) ways to enhance the quality, utility, and clarity of the information to be collected; (d) ways to minimize the burden of the collection of information on those who are to respond, including those who respond through the use of appropriate automated, electronic, or mechanical, collection techniques, or other forms of information technology. These comments should be sent to the Desk Officer for Agriculture, Office of Information and Regulatory Affairs, Office of Management and Budget, Washington, DC 20503 and to Ms. C. Mondina Jolley, Student Employment Program Manager, USDA, FSA, Human Resources Division, Domestic Operations Branch, 1400 Independence Ave., SW., Washington, DC 20250-0596. Copies of the information collection may be obtained from Ms. Jolley at the above address.

All responses to this notice will be summarized and included in the request for OMB approval. All comments will also become a matter of public record.

Signed in Washington, DC, on December 16, 2004.
James R. Little,
Administrator, Farm Service Agency.

[FR Doc. 04-28160 Filed 12-23-04; 8:45 am]

BILLING CODE 3410-05-P